DEPARTMENT OF HEALTH AND HUMAN SERVICES

Indian Health Service

Substance Abuse and Suicide Prevention Program: Suicide Prevention, Intervention, and Postvention; Correction

AGENCY: Indian Health Service, Department of Health and Human Services.

ACTION: Notice; correction.

SUMMARY: The Indian Health Service published a Notice of Funding Opportunity in the Federal Register of November 4, 2021, for the Suicide Prevention, Intervention, and Postvention grant program. The notice was missing a section in the description of the required Project Narrative that applicants must submit with their application. The Project Narrative will have a fourth section added, Statement of Need, and the page limit for the Project Narrative will increase from 15 to 17 pages.

FOR FURTHER INFORMATION CONTACT: Paul Gettys, Acting Director, Division of Grants Management, 5600 Fishers Lane, Rockville, MD 20857, Phone: (301) 443-2114.

SUPPLEMENTARY INFORMATION:

Corrections

1. In the Federal Register of November 4, 2021, in FR Doc 2021-24022, on page 60861, in the second column, under IV. Application and Submission Information, under 3. SF-424B, Assurances—Non-Construction Programs, correct “Project Narrative” to read: Project Narrative (not to exceed 17 pages).

2. In the Federal Register of November 4, 2021, in FR Doc 2021-24022, starting on page 60861, in the third column and continuing to page 60862, in the first column, correct “A. Project Narrative,” to read:

A. Project Narrative: This narrative should be a separate document that is no more than 17 pages and must: (1) Have consecutively numbered pages; (2) use black font 12 points or larger; (3) be single-spaced; and (4) be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The 17-page limit for the narrative does not include the standard forms, Tribal Resolutions, budget, budget justification and narrative, and/or other items.

There are four parts to the narrative: Part 1—Statement of Need; Part 2—Program Planning; Part 3—Program Data Collection and Evaluation; and Part 4—Program Accomplishments Report. See below for additional details about what must be included in the narrative. The page limits below are for each narrative and budget submitted.

Part 1: Statement of Need (Limit—2 Pages)

The project narrative must include the statement of need that addresses the nature and scope of the problem (e.g., suicide rates, ideations, attempts, and contagions). For more information, refer to Section V.1.A, Evaluation Criteria—Statement of Need details.

Part 2: Program Planning (Limit—10 Pages)

Describe the scope of work the Tribe, Tribal organization, or UIO is planning by clearly and concisely outlining the following required components:

1. Goals and Objectives. Reference all required objectives.

2. Project Activities. Link your project activities to your outlined goals and objectives.

3. Organization Capacity and Staffing/Administration. State your organization's current capacity to implement and manage this award (i.e., current staffing, facilities, information systems, and experience with previous similar projects).

Part 3: Program Data Collection and Evaluation (Limit—3 Pages)

Based on the required objectives, describe how the Tribe, Tribal organization, or UIO plans to collect data for the proposed project and activities. Identify any type(s) of evaluation(s) that will be used and how you will collaborate with partners (i.e., Tribal Epidemiology Center (TEC)) to complete any evaluation efforts or data collection. Funded projects are encouraged to coordinate data collection efforts with their TEC or Urban Epidemiology Center (for urban awardees) and should describe their plan for coordination and collaboration with the TEC.

Part 4: Program Accomplishments Report (Limit—2 Pages)

Describe the Tribe's, Tribal organization's, or UIO's significant program activities and achievements/accomplishments over the past 5 years associated with suicide prevention, intervention, and postvention activities. Provide success stories, data, or other examples of how other funded projects/programs made an impact in your community to address suicide. If applicable, provide justification for lack of progress of previous efforts.

Elizabeth A. Fowler,
Acting Deputy Director, Indian Health Service.

[FR Doc. 2021-27875 Filed 12-22-21; 8:45 am]

BILLING CODE 4165-16-P